OFFICE OF THE UNITED STATES TRADE REPRESENTATIVE

Trade Policy Staff Committee; Public Comments Regarding the Doha Multilateral Trade Negotiations and Agenda in the World Trade Organization (WTO)

ACTION: Notice and request for comments.

SUMMARY: The Trade Policy Staff Committee (TPSC) is requesting written public comments on general U.S. negotiating objectives as well as country and item-specific priorities for the negotiations and work program launched at the WTO's Fourth Ministerial Conference in November 2001. WTO Trade Ministers at their Fourth Ministerial Meeting in Doha, Qatar approved: (1) A declaration launching new global trade negotiations and a work program; (2) a declaration on Intellectual Property Protection (TRIPS) and Access to Medicines and Public Health; and (3) a Decision on Implementation-Related Issues and Concerns raised by Developing Countries. Negotiations will be conducted at the WTO's headquarters in Geneva, Switzerland. The WTO General Council and the Trade Negotiations Committee will oversee the negotiations and work program of the WTO. Comments received will be considered by the Executive Branch in formulating U.S. positions and objectives for U.S. participation in the negotiations and discussions on the WTO's agenda.

DATES: Public comments are due by May 1, 2002.

ADDRESSES: Office of the U.S. Trade Representative, 1724 F Street, NW, Washington, DC, 20508.

FOR FURTHER INFORMATION CONTACT: General inquiries should be made to the USTR Office of WTO and Multilateral Affairs at (202) 395-6843; calls on individual subjects will be transferred as appropriate. Procedural inquiries concerning the public comment process should be directed to Gloria Blue, Executive Secretary, Trade Policy Staff Committee, Office of the United States Trade Representative, (202) 395-3475. Further information on the WTO and the declarations agreed at the Fourth Ministerial can be obtained via Internet at the WTO Web site www.wto.org, the Office of the U.S. Trade Representative at www.ustr.gov. Attention is also drawn to the President's Annual Report on the Trade Agreements Program, which is available on the USTR Internet site and contains extensive information on the WTO, the Doha Ministerial Meeting and the work underway in the WTO.

SUPPLEMENTARY INFORMATION: The TPSC invites written comments from the public on issues to be addressed in the course of the negotiations launched at the WTO's Fourth Ministerial Conference, in Doha, Qatar in November 2001. The TPSC sought comments in three earlier solicitations prior to the Doha Ministerial: (1) Public Comments on Preparations for the Fourth Ministerial Conference of the World Trade Organization, November 9-13, 2001 in Doha, Qatar, published in 66 FR 18142, April 5, 2001; (2) Public Comments for Mandated Multilateral Trade Negotiations on Agriculture and Services in the WTO and Priorities for Future Market Access Negotiations on Non-Agricultural Products, published in 65 FR 16450, March 28, 2000; and (3) Solicitation of Public Comments on Institutional Improvements to the World Trade Organization (WTO), Particularly With Respect to the Transparency of its Operations and Outreach to Civil Society, which included a solicitation of comments regarding the WTO's dispute settlement operations and was published in 65 FR 36501, June 8, 2000. Supplementary or new submissions on these topics are welcome, but comments submitted pursuant to the earlier notice need not be resubmitted. The TPSC will review supplemental or new comments together with earlier submissions in developing positions.

The Doha Development Agenda agreed to at the WTO's Fourth Ministerial Meeting establishes a negotiating agenda that is to conclude within three years (not later than 1 January 2005), and sets out a certain number of issues to be considered further at the next ministerial meeting of the WTO in 2003. In addition to the mandated negotiations in agriculture and services, the negotiation of a multilateral system of notification and registration of geographical indications for wine and spirits, and the negotiation of improvements to the Dispute Settlement Understanding (DSU), negotiations at Doha were launched on market access for non-agricultural products; WTO rules (on antidumping, subsidies, fisheries subsidies, and regional trade agreements); and negotiations on limited aspects of the relationship between WTO and multilateral environmental agreements. The Doha agenda foresees further work on the so-called Singapore issues of Trade and Competition, Trade and Investment, Transparency in Government Procurement, and Trade Facilitation, leading to decisions on negotiations by the time of the WTO's Fifth Ministerial Meeting in 2003. In addition, the Doha agenda focuses on a variety of issues relating to the regular work program of the WTO which have a bearing on the negotiations, including: further work on implementation of the existing Agreements; integration of developing countries into the multilateral trade system; trade-related technical assistance and capacity building; small economies; special and differential treatment; treatment of least-developed countries; electronic commerce; trade, debt and finance; trade and technology, and the work of the Committee on Trade and Environment (CTE).

Comments are welcome with as much specificity as the respondent can provide on general or commodity-specific negotiating objectives; country and product-specific export interests or barriers; and experience with particular foreign measures that impede U.S. market access. An indication or estimation of the anticipated benefits from liberalization of the identified barriers would be helpful. Since trade-related technical assistance and capacity building for developing countries will be prominent in discussions, an indication of what private sector technical assistance and capacity building activities are under way or planned in each negotiating area would also be welcome. An initial task in many of these subject areas will be for governments to identify appropriate negotiating methods to achieve the desired liberalization. Comments on these methodology questions would therefore also be appropriate.

The U.S. International Trade Commission has provided to the TPSC the public comments received on agricultural and non-agricultural products as part of its investigation (Investigation No. 332-405), Probable Economic Effects on Reduction or Elimination of U.S. Tariffs (November 1999 (Confidential report)). On February 11, 2002 the U.S. Trade Representative requested that the ITC update its investigation. The ITC instituted its investigation (Investigation No. 332-440, Probable Effect of the Reduction or Elimination of U.S. Tariffs) on February 28, 2002 and published its Notice of Institution in 67 FR 10576, March 8, 2002. The ITC will again provide the public comments received as part of its investigation so these comments need not be resubmitted separately to the TPSC.

By separate notice, and pursuant to Executive Order 13141, USTR will be initiating an environmental review of the negotiations launched by the Doha Declaration and requesting public comment on the scope of the environmental review.

For ease of submission, the TPSC has identified the following headings under which comments may be submitted. Submissions should identify the relevant subject area or areas to which comments apply. These include:

(1) WTO Built-in Agenda Negotiations

(A) Agriculture. Supplementary comments are invited on the negotiations currently underway on agriculture pursuant to the terms of the Uruguay Round Agreements and the Doha Declaration. The mandated negotiations in agriculture address agricultural goods from Chapters 1-24, except fish and fish products; 2905.43 (mannitol); 2905.44 (sorbitol); 3301 (essential oils); 3501-3505 (albuminoidal substances, modified starches, glues); 3809.10 (finishing agents); 3823.60 (sorbitol n.e.p.); 4101-4103 (hides and skins); 4301 (raw furskins); 5001-5003 (raw silk and silk waste); 5101-5103 (wool and animal hair); 5201-5203 (raw cotton, waste and cotton carded or combed); 5301 (raw flax); and 5302 (raw hemp), as specified by the Agreement on Agriculture. The Uruguay Round Agreement on Agriculture stipulates in Article 20 that a continuation of the reform process begin “one year before the end of the implementation period,” i.e., the beginning of 2000. The Doha Declaration outlines the objectives of the agriculture negotiations: substantial improvements in market access; reduction, with a view to phasing out, all forms of export subsidies; and, substantial reductions in domestic support. The areas for negotiation are market access, such as tariffs, tariff-rate quotas, tariff administration, and import state trading enterprises; domestic support, including trade-distorting support and non-trade distorting support; and export competition, such as export subsidies, export credits, export state trading enterprises, and export taxes and restrictions. Comments on sectoral initiatives and rules and disciplines affecting trade in agricultural goods are welcome. Respondents are requested to provide as much specificity as possible on a commodity and country-specific level focusing on trade interests and barriers. To the maximum extent possible, these should be identified by the Harmonized System nomenclature at the 6-digit level and for specific markets of interest. The Doha Declaration calls for agreement on modalities for the negotiations to be reached by March 31, 2003, and the submission of initial schedules by the WTO Fifth Ministerial meeting, likely to be held by mid-2003. A helpful supplement to the written statement would be the provision of a disk containing as much of the technical details as possible, either in a spreadsheet format or in a word processing table format, with each tariff line in a separate cell. This disk should be labeled and should clearly identify the software used and the respondent.

As noted above, a solicitation of public comments was published on March 28, 2000. New comments are welcome, but comments submitted pursuant to the earlier notice need not be resubmitted.

(B) Services. Supplementary comments are invited on the negotiations currently underway on trade in services pursuant to the terms of the Uruguay Round Agreements and the Doha Declaration. The General Agreement on Trade in Services (GATS) provides, in Article XIX, “Members shall enter into successive rounds of negotiations, beginning not later than five years from the date of entry into force of the WTO Agreement,” i.e., the beginning of 2000. For services, topics for negotiating objectives include removal or reduction of barriers to U.S. services exports under existing GATS disciplines; establishment of new GATS disciplines to ensure effective market access, e.g., proposed disciplines on domestic regulations on services, possibly addressing transparency and necessity; and clarification of sectoral definitions in the Agreement. The Doha Declaration calls for the submission of initial requests for specific commitments by June 30, 2002 and initial offers by March 31, 2003.

Services sectors under consideration in the negotiations include: (1) Business services (including professional and related services such as legal, accounting, auditing and bookkeeping, taxation, medical, dental, veterinary, engineering, architectural, and urban planning services), computer and related services, research and development services, real estate services, rental and leasing services, and advertising and management services; (2) communication services (including telecommunications services, audiovisual services, express delivery services); (3) construction and related engineering services; (4) distribution services (including wholesale, retail, and franchising services); (5) educational and training services; (6) environmental services; (7) energy services; (8) financial services, including insurance and insurance-related services, banking and securities services; (9) health-related and social services; (10) tourism and travel-related services; (11) recreational, cultural and sporting services; and (12) transport services.

Comments on services in response to this notice should include, wherever appropriate, sector-specific export priorities by country. A helpful supplement to the written statement would be the provision of a disk containing as much of the technical details as possible, either in a spreadsheet format or in a word processing table format, with each services sector in a separate cell. This disk should be labeled and should clearly identify the software used and the respondent.

As noted above, a solicitation of public comments was published on March 28, 2000. New comments are welcome, but comments submitted pursuant to the notice need not be resubmitted.

(C) Trade-Related Aspects of Intellectual Property Rights. The Council for Trade-Related Aspects of Intellectual Property Rights (Council for TRIPS), pursuant to Article 23.4 of the TRIPS Agreement, has been deliberating on the establishment of a multilateral system of notification and registration of geographical indications for wines and spirits. At Doha, it was agreed that these negotiations should be concluded by the WTO's Fifth Ministerial Conference.

Specific issues to address include: (1) The features that should be included or excluded in a multilateral system of notification and registration of geographical indications for wines and spirits, with justification; (2) how, if at all, such a system should address competing rights in trademarks and geographical indications; (3) how, if at all, the system should address competing rights in other geographical indications; (4) how the provisions of the system should relate to Article 6 ter of the Paris Convention (which prohibits the registration of flags and other official state emblems); (5) how the provisions relate to the U.S. Federal system of notifications; and (6) the legal effect of a notification, both with respect to trademarks and to other geographical indications.

While no other negotiations were agreed at Doha, the TRIPS Council work program was strengthened in terms of its work on issues of interest to Members, including on implementation, the examination of a possible extension of protection of geographical indications for products other than wine and spirits, and the issue of access to medicines, which was the subject of a separate declaration at Doha.

(2) Non-agricultural or industrial market access. Supplementary comments are invited on the negotiations launched on market access. Comments are welcome with as much specificity as the respondent can provide on general negotiating objectives and/or targets; country- and product-specific export interests or barriers; and particular measures that might be improved in the context of the new negotiations, including both tariffs and non-tariff measures (NTMs). With regard to NTMs, any available details on the foreign laws or regulations that lie behind the barrier would also be helpful. To the maximum extent possible, these should be identified by Harmonized System nomenclature at the 6-digit level, (or preferably 8-digit level or higher, where available) and should specify markets of interest. The United States will work with trading partners to reach agreement on negotiating modalities concurrent with the schedule established for agriculture modalities, by March 31, 2003. Specific comments on possible approaches to negotiations are invited (i.e., sectoral initiatives such as zero-for-zero or harmonization approaches, request/offer and formula methodologies, and approaches that address the interests of small- and medium-sized enterprises). Comments should encompass the priorities and methodologies for the negotiation of environmental goods identified in the Doha Declaration under the heading of Trade and the Environment. A helpful supplement to the written statement would be the provision of a disk containing as much of the technical details as possible, either in a spreadsheet format or in a word processing table format, with each tariff line in a separate cell. This disk should be labeled and should clearly identify the software used and the respondent.

(3) WTO Rules. Ministers established a carefully-balanced mandate for negotiations dealing with rules in four specific areas: antidumping; subsidies and countervailing measures; fisheries subsidies and regional trade agreements. The mandate calls for an identification of issues in the initial phase and subsequent negotiations aimed at improving and clarifying disciplines. Comments are invited on U.S. objectives for these negotiations, bearing in mind that there is agreement to preserve the basic concepts, principles and effectiveness of the Antidumping and Subsidies Agreements and their instruments and objectives. In particular, respondents may wish to address ways to enhance disciplines on trade distorting practices that lead to unfair trade, as well as the due process, transparency and judicial review provisions of the Agreements. (Respondents may wish to review the articles dealing with “Evidence,” Public Notice and Explanation of Determinations and Judicial Review) and may also wish to focus on the linkages between the rules issues and the operation of the Dispute Settlement Understanding (DSU).

With respect to the negotiations related to fisheries disciplines, respondents should focus on the nature and scope of negotiations on the specific issues of fisheries subsidies, particularly those that lead to overcapacity and over-fishing. With respect to the negotiations on regional trade agreements, attention is drawn to the work of the Committee on Regional Trade Agreements (CRTA) in the WTO, including the systemic issues that have been identified in the CRTA work program. Respondents should focus on the objectives that the U.S. should pursue in discussions aimed at revising the rules in these areas in the light of current practice.

(4) Dispute Settlement. The mandate calls on Members to complete their negotiations to improve and clarify WTO rules on dispute settlement procedures by May 2003. The United States welcomes the opportunity to refine the dispute settlement system based on the experiences of Members over the past six years. The United States has pursued a more open and transparent set of procedures which achieve effective and timely results. Comments are welcome on the objectives that the United States should be pursuing in this critical area of negotiations.

(5) Trade and the Environment. At Doha, Ministers agreed on a package of environmental elements that demonstrates the WTO's commitment to sustainable development and to simultaneously advancing trade, environment, and development interests. These mandates enable U.S. negotiators to pursue an affirmative agenda, focusing on the reduction/elimination of environmentally harmful subsidies in fisheries and export subsidies in agriculture as well as on improved market access for environmental goods and services; and encouraging capacity-building for developing Members, including in connection with environmental reviews of trade agreements. The role of the Committee on Trade and Environment (CTE) was strengthened and emphasis placed on the win-win aspects of market access, relevant provisions of TRIPs, and labeling requirements for environmental purposes, with a mandate to identify any need to clarify relevant rules. The Members also agreed to enhance the mutual supportiveness of multilateral environmental agreements (MEAs) and the WTO rules by developing procedures for regular information exchange between WTO committees and MEA secretariats, and by further exploring the relationship between existing WTO rules and specific trade obligations set out in MEAs, and by reducing or eliminating tariff and non-tariff barriers to environmental goods and services. This work on MEAs will be conducted by the CTE meeting in Special Session. Comments are welcome on U.S. objectives in all the areas identified above, recognizing that in certain cases, such as fisheries subsidies and liberalization of environmental goods resources, the actual negotiations will take place in other relevant negotiating groups.

(6) Singapore Issues. At the 1996 Singapore Ministerial Meeting, Ministers agreed to work programs in the areas of: (1) Trade and competition; (2) trade and investment; (3) trade facilitation; and (4) transparency in government procurement. Comments are welcome on all of these issues and U.S. objectives for these issues which shall be considered further at the Fifth Ministerial Meeting.

A. Interaction Between Trade and Competition Policy

The working group has been assigned a modest program of work aimed at identifying core principles, with further decisions at the next (Fifth) Ministerial. In the first stage, the WTO will focus on clarification of “core principles,” including transparency, non-discrimination and procedural fairness, and provisions on hard-core cartels; modalities for voluntary cooperation; and support for progressive reinforcement of competition institutions in developing countries through capacity building. At the Fifth Ministerial, a decision will be taken on the timing and specific content of negotiations.

B. Investment

The existing WTO working group on investment will clarify issues, such as scope, transparency, non-discrimination, modalities for making commitments, exceptions, and government-to-government dispute settlement. At the Fifth Ministerial, a decision will be taken on the time and specific content of the negotiations. Comments would also be welcome regarding the relationship of any potential WTO investment provisions with existing bilateral or regional investment agreements.

C. Trade Facilitation

Ministers outlined a focused program leading to negotiations aimed at meeting the needs for transparency and efficiency of the fast-paced global economy. Ministers agreed to provide for work on new WTO rules to make procedures at international borders more transparent and efficient. Negotiations will take place after the Fifth Ministerial on the basis of a decision to be taken at that Ministerial on modalities of negotiations. At that time, negotiations will be launched on WTO rules for expediting the movement and clearance of goods crossing borders, building on relevant GATT Articles (Articles V (transit), VIII (formalities), and X (transparency)).

We are also interested in identification of country-specific problems that U.S. exporters are having in terms of further expediting the movement, release and clearance of goods including goods in transit, non-transparent procedures, and requirements for certificates of origin for non-preferential trade.

D. Transparency in Government Procurement

Building on the Working Group's excellent preparatory work to date, Ministers agreed to a focused program that will lead to disciplines on government purchases, making an important contribution to combating corruption. Ministers agreed to negotiate an agreement providing for enhanced transparency in WTO Member government procurement procedures, to be launched at the Fifth Ministerial. The negotiations will not incorporate new market access commitments, meaning Members' preferential procurement programs will not be involved. The process will include a focused preparatory phase and a program of capacity building and technical assistance for developing countries.

(7) Development and related issues. The Doha Declaration focuses extensively on development, in particular the provision of technical assistance and capacity building support to trading partners. Comments are requested on ways to facilitate the participation of poorer, less-advanced and least-developed countries in the WTO, including making the WTO more responsive to development concerns. Comments should take into account work that has been conducted to integrate the technical assistance provided by various international organizations, including the WTO. Areas for comment could include provision of additional capacity building and market access opportunities, the possible graduation of countries from preference programs, the integration of trade into the poverty reduction strategies of other institutions, and improving the interplay between the work of the WTO and that of other international institutions such as the IMF, IBRD, UNCTAD, ILO and UNDP, to be more responsive to the development needs of WTO members. Respondents are encouraged to provide information on relevant technical assistance provided by their organization.

(8) Systemic Issues/Institutional Reform. Comments are requested on the important institutional issues raised about the WTO in terms of its openness and accountability, including its outreach to citizens. The United States continues to seek institutional improvements to the WTO, while preserving its intergovernmental nature. For example, the United States has consistently called for the WTO to build upon past progress by (i) expanding the range and improving the timeliness of WTO documents available to the public; (ii) strengthening the guidelines for consultations with non-governmental organizations (NGOs); (iii) enhancing the WTO's program of symposia and consultations on specific topics of mutual interest; (iv) expanding and improving the use of Internet facilities to reach more stakeholders in more creative ways; and (v) broadening the range of WTO meetings and events that would be open to the public. Another area of interest relates to the operation of the WTO and its relations among Members, and internal consultative processes and improvements, including the establishment of new institutional arrangements within the WTO that would build upon the general practice of operating on the basis of consensus of all members.

(9) Implementation. The separate decision on implementation agreed to at Doha, along with paragraph 12 of the Doha declaration, focus on the implementation concerns that have been an issue for many WTO members over the past several years. At Doha, Members addressed a wide range of developing country concerns regarding implementation of previous WTO agreements, primarily through clarifying existing provisions and seeking further work in WTO committees. Issues that remain outstanding were assigned to the WTO work program, or addressed in negotiations where they have been specifically mandated. Comments are invited on the work on implementation, recognizing that by the end of 2002 that the TNC will receive reports from Members in line with paragraph 12(b) of the main declaration.

(10) Other issues. Comments are welcome on other issues that respondents believe would be appropriate to raise with respect to the negotiations and work program of the WTO, including the work assigned to the General Council regarding the subjects of trade, debt and finance, and transfer of technology, the Work Program on Electronic Commerce, as well as on environmental or labor issues relevant to the formulation of U.S. objectives for the negotiations and work program. The TPSC's aim is to be as inclusive as possible in providing opportunity for public comments.

Written Submissions. Comments should state clearly the objective(s) and should contain detailed information supporting the objective(s). Submissions should clearly indicate the general topic (i.e., agriculture, services or non-agricultural products). Persons submitting written comments should provide twenty (20) copies no later than noon May 1, 2002, to Gloria Blue, Executive Secretary, Trade Policy Staff Committee, Office of the United States Trade Representative, 1724 F Street NW, Washington, DC 20508. Where possible, respondents should also submit comments in electronic form by providing a disk together with the required twenty hard copies. An electronic submission alone will not be considered. The disk should be labeled and should clearly identify the software used and the respondent. As noted in the sections on services, agriculture and industrial market access, the provision of supplemental technical information would be helpful. This information should be provided in spreadsheet or table format in Microsoft Word, Word Perfect, Excel, Quatro Pro or MS Access.

Written comments submitted in connection with this request, except for information granted “business confidential” status pursuant to 15 CFR 2003.6, will be available for public inspection in the USTR Reading Room, Office of the United States Trade Representative. An appointment to review the file may be made by calling 202-395-6186. The Reading Room is open to the public from 10:00 a.m. to 12:00 noon, and from 1:00 p.m. to 4:00 p.m. Monday through Friday.

Business confidential information, including any information submitted on disks, will be subject to the requirements of 15 CFR 2003.6. Any business confidential material must be clearly marked as such and must be accompanied by a non-confidential summary thereof. If the submission contains business confidential information, twenty copies of a public version that does not contain confidential information, must be submitted. A justification as to why the information contained in the submission should be treated confidentially must be included in the submission. In addition, any submissions containing business confidential information must be clearly marked “Business Confidential” at the top and bottom of the cover page (or letter) and each succeeding page of the submission. The version that does not contain business confidential information should also be clearly marked, at the top and bottom of each page, “public version” or “non-confidential.”

Carmen Suro-Bredie,
Chair, Trade Policy Staff Committee.

[FR Doc. 02-6606 Filed 3-18-02; 8:45 am]

BILLING CODE 3190-01-P